PRIVACY AND CIVIL LIBERTIES OVERSIGHT BOARD

[Notice-PCLOB-2014-02; Docket No. 2014-0001; Sequence No. 2]

Notice of Public Hearing

AGENCY: Privacy and Civil Liberties Oversight Board.

ACTION: Public Hearing notice.

SUMMARY: The Privacy and Civil Liberties Oversight Board (PCLOB) will conduct a public hearing to continue the PCLOB's study of the federal government's surveillance program. The meeting is open to the public.

DATES: March 19, 2014, 9:00 a.m.-4:30 p.m. Eastern Standard Time.

FOR FURTHER INFORMATION CONTACT: Ms. Susan Reingold, Chief Management Officer, at 202-331-1986.

SUPPLEMENTARY INFORMATION: The public hearing meeting is scheduled for March 19, 2014, beginning at 9:00 a.m. and ending at 4:30 p.m. Eastern Standard Time. Location: Mayflower Hotel, 1127 Connecticut Avenue NW., Washington, DC 20036.

Matters To Be Considered: The Privacy and Civil Liberties Oversight Board (PCLOB) will conduct a public hearing to continue the PCLOB's study of the federal government's surveillance program operated pursuant to Section 702 of the Foreign Intelligence Surveillance Act, 50 U.S.C. § 1881a. The Board will evaluate both legal and policy issues concerning operation of the program, and consider recommendations to ensure that U.S. government counterterrorism efforts properly balance the need to protect privacy and civil liberties. Please visit the PCLOB Web site www.pclob.gov for the full agenda closer to the hearing date.

Procedures for Public Observation

The meeting is open to the public. Pre-registration is not required. Individuals who plan to attend and require special assistance should contact Ms. Susan Reingold, Chief Management Officer, at 202-331-1986, at least 72 hours prior to the meeting date.

Dated: March 4, 2014.
Peter Winn,
Acting General Counsel, Privacy and Civil Liberties Oversight Board.

[FR Doc. 2014-05047 Filed 3-7-14; 8:45 am]

BILLING CODE 3820-B3-P